FEDERAL COMMUNICATIONS COMMISSION

Sunshine Act Meeting; Open Commission Meeting, Wednesday, August 6, 2003

July 30, 2003.

The Federal Communications Commission will hold an Open Meeting on the subjects listed below on Wednesday, August 6, 2003, which is scheduled to commence at 9:30 a.m. in Room TW-C305, at 445 12th Street, SW., Washington, DC.

Item No. | Bureau | Subject
1 | Wireless Telecommunications | The Wireless Telecommunications Bureau and the Rural Utilities Service Administrator will report on the recently launched USDA/FCC initiative to increase broadband deployment and wireless access for the benefit of rural consumers.
2 | International | Title: Policy for Licensing Domestic Satellite Earth Stations in the Bush Communities of Alaska.
|  | Summary: The Commission will consider a Report and Order concerning the Alaska Bush Earth Station policy (IB Docket No. 02-30, RM-7246).
3 | Media | Title: Amendment of Parts 73 and 74 of the Commission's Rules to Establish Rules for Digital Low Power Television, Television Translator, and Television Booster Stations and to Amend Rules for Digital Class A Television Stations.
|  | Summary: The Commission will consider a Notice of Proposed Rulemaking regarding rules, policies and procedures for digital station operations for low power television, TV translators and TV booster stations, which primarily provide television service to smaller geographic regions and rural communities.
4 | Wireline Competition | The Wireline Competition Bureau will report on the growth of subscribership to high-speed service during the last three years.
5 | Consumer & Governmental Affairs and Office of Strategic Planning | The Consumer & Governmental Affairs Bureau and the Office of Strategic Planning will report on the Commission's outreach and coordination initiatives to rural America.

Additional information concerning this meeting may be obtained from Audrey Spivack or David Fiske, Office of Media Relations, (202) 418-0500; TTY 1-888-835-5322.

Audio/Video coverage of the meeting will be broadcast live over the Internet from the FCC's Audio/Video Events web page at http://www.fcc.gov/realaudio.

For a fee this meeting can be viewed live over George Mason University's Capitol Connection. The Capitol Connection also will carry the meeting live via the Internet. To purchase these services call (703) 993-3100 or go to http://www.capitolconnection.gmu.edu. Audio and video tapes of this meeting can be purchased from CACI Productions, 341 Victory Drive, Herndon, VA 20170, (703) 834-1470, Ext. 19; Fax (703) 834-0111.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@aol.com.

Federal Communications Commission.
Marlene H. Dortch,
Secretary.

[FR Doc. 03-20093 Filed 8-4-03; 10:12 am]

BILLING CODE 6712-01-P